DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Scientific Research, Exempted Fishing, and Exempted Educational Activity Submissions.

Form Number(s): None.

OMB Approval Number: 0648-0309.

Type of Request: Regular submission.

Burden Hours: 1,357.

Number of Respondents: 124.

Average Hours per Response: Scientific research plans, 35 minutes; scientific research reports, 30 minutes; exempted fishing permit requests, 20 hours and 30 minutes; exempted fishing reports, 2 hours; exempted educational requests, 4 hours and 30 minutes; and exempted educational reports, 2 hours.

Needs and Uses: The Magnuson-Stevens Fishery Conservation and Management Act (MSA) and its regulations do not apply to scientific research activities conducted on board a scientific research vessel. Persons planning to conduct such research are encouraged to submit a research plan to ensure that the activities are considered research and not fishing. The National Marine Fisheries Service may also grant exemptions, through an application process, from fishery regulations for educational or other activities (e.g., testing of fishing gear). Those granted exemptions for any of these activities must submit annual reports.

Affected Public: Business or other for-profit; individuals or households; not-for-profit institutions, Federal Government, State, local or tribal government.

Frequency: Annually and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, fax number (202) 395-7285, or David_Rostker@omb.eop.gov.

Dated: August 25, 2005
Gwellnar Banks,
Management Analyst, Office of the Chief Information Officer.

[FR Doc. 05-17283 Filed 8-30-05; 8:45 am]

BILLING CODE 3510-22-P